DEPARTMENT OF AGRICULTURE

Office of Advocacy and Outreach

Advisory Committee on Beginning Farmers and Ranchers (ACBFR) Request for Nominations

AGENCY: Office of Advocacy and Outreach, USDA.

ACTION: Solicitation for nominations.

SUMMARY: Pursuant to the Federal Advisory Committee Act, notice is hereby given that the Secretary of Agriculture is soliciting nominations for membership for the Advisory Committee on Beginning Farmers and Ranchers (the “Committee”).

Interested persons may submit applications and nomination packages which can be downloaded at: https://www.ocio.usda.gov/document/ad-755.

DATES: Consideration will be given to nominations received on or before June 15, 2017.

ADDRESSES: Nomination packages may be sent by postal mail or commercial delivery to: Mrs. Kenya Nicholas, Designated Federal Official, USDA OAO, 1400 Independence Avenue SW., Room 520-A, Washington, DC 20250-0601 or faxed to (202) 720-7704.

FOR FURTHER INFORMATION CONTACT: Mrs. Kenya Nicholas, Designated Federal Official, USDA OAO, 1400 Independence Avenue SW., Room 520-A, Washington, DC 20250-0601; Telephone (202) 720-6350; Fax (202) 720-7704; Email: kenya.nicholas@osec.usda.gov.

SUPPLEMENTARY INFORMATION: The Committee advises the Secretary of Agriculture on matters broadly affecting new farmers and ranchers including strategies, policies, and programs that will enhance opportunities and create new farming and ranching operations. The Committee will consider Department goals and objectives necessary to implement prior recommendations. The Committee will develop and recommend an overall framework and strategies to encompass principles that leverage and maximize existing programs, and create and test new program opportunities.

On March 7, 2017, we published in the Federal Register (FR DOC# 2017-04392, Page 12782) a Notice of Solicitation for Membership. Applications were required to be received on or before March 31, 2017. We are re-issuing this announcement to extend the submission period to June 15, 2017. Prior applicants are not required to reapply.

In this notice, we are soliciting nominations from interested organizations and individuals from among ranching and farming producers (industry), related government, State, and Tribal agricultural agencies, academic institutions, commercial banking entities, trade associations, and related nonprofit enterprises. An organization may nominate individuals from within or outside its membership; alternatively, an individual may nominate herself or himself. Nomination packages should include a nomination form along with a cover letter or resume that documents the nominee's background and experience. The membership term shall not exceed 2 years from the date of appointment. The Secretary may also appoint others as deemed necessary and appropriate to fulfill the Advisory Committee on Beginning Farmers and Ranchers charter. An organization may nominate individuals from within or outside its membership; alternatively, an individual may nominate herself or himself. Nomination packages should include a nomination form along with a cover letter or resume that documents the nominee's background and experience. Nomination forms are available on the Internet at https://www.ocio.usda.gov/document/ad-755 or may be obtained from Mrs. Kenya Nicholas at the email address or telephone number noted above.

The Secretary will fill at least six vacancies from among those organizations and individuals solicited, in order to obtain the broadest possible representation on the Committee. Equal opportunity practices, in line with the USDA policies, will be followed in all appointments to the Committee. To ensure that the recommendations of the Committee have taken into account the needs of the diverse groups served by the Department, membership should include, to the extent practicable, individuals with demonstrated ability to represent minorities, women, and persons with disabilities.

Signed in Washington, DC, May 2, 2017.
Christian Obineme,
Associate Director, Office of Advocacy and Outreach.

[FR Doc. 2017-11214 Filed 5-30-17; 8:45 am]

BILLING CODE P